DEPARTMENT OF ENERGY

Federal Energy Regulatory Commission

Combined Notice of Filings #1

Take notice that the Commission received the following exempt wholesale generator filings:

Docket Numbers: EG25-278-000.

Applicants: Swift Air Solar II, LLC.

Description: Swift Air Solar II, LLC submits Notice of Self-Certification of Exempt Wholesale Generator Status.

Filed Date: 4/8/25.

Accession Number: 20250408-5093.

Comment Date: 5 p.m. ET 4/29/25.

Docket Numbers: EG25-279-000.

Applicants: Swift Air Solar III, LLC.

Description: Swift Air Solar III, LLC submits Notice of Self-Certification of Exempt Wholesale Generator Status.

Filed Date: 4/8/25.

Accession Number: 20250408-5094.

Comment Date: 5 p.m. ET 4/29/25.

Take notice that the Commission received the following Complaints and Compliance filings in EL Dockets:

Docket Numbers: EL25-75-000; QF25-215-001; QF25-216-001; QF24-361-005; QF25-217-002.

Applicants: Marion Solar 4 LLC, Chaberton Solar Catherine LLC, Pivot Solar 25 LLC, Pivot Solar 24 LLC, Pivot Energy Inc., Pivot Solar 24 LLC, Chaberton Solar Catherine LLC, Pivot Solar 25 LLC, Marion Solar 4 LLC.

Description: Petition for Declaratory Order of Pivot Energy Inc.

Filed Date: 4/4/25.

Accession Number: 20250404-5244.

Comment Date: 5 p.m. ET 5/5/25.

Take notice that the Commission received the following electric rate filings:

Docket Numbers: ER10-1427-011; ER12-645-029; ER22-192-009; ER23-2203-004; ER24-443-003; ER19-1074-017; ER19-529-017; ER19-1075-017; ER20-1806-007; ER22-1010-008; ER22-1883-005.

Applicants: Ledyard Windpower, LLC, TerraForm IWG Acquisition Holdings II, LLC, Catalyst Old River Hydroelectric Limited Partnership, Brookfield Renewable Energy Marketing US LLC, Brookfield Renewable Trading and Marketing LP, Brookfield Energy Marketing Inc., Deriva Energy Services, LLC, Wildflower Solar, LLC, Evolugen Trading and Marketing LP, California Ridge Wind Energy LLC, Brookfield Energy Marketing LP.

Description: Supplement to 06/28/2024, Triennial Market Power Analysis for Central Region of Brookfield Energy Marketing Inc., et al.

Filed Date: 4/7/25.

Accession Number: 20250407-5203.

Comment Date: 5 p.m. ET 4/28/25.

Docket Numbers: ER10-2895-024; ER14-1964-015; ER16-287-010; ER12-161-026; ER20-2028-001; ER13-2143-017; ER10-3167-017; ER13-203-016; ER12-2068-021; ER17-482-009; ER19-1074-009; ER10-1427-003; ER20-1447-005; ER10-2917-024; ER19-1075-009; ER19-529-009; ER13-1613-017; ER10-2460-022; ER10-2461-023; ER10-2918-025; ER10-2920-025; ER12-682-023; ER10-2463-021; ER11-2201-027; ER22-192-003; ER10-2921-024; ER10-2922-024; ER13-17-021; ER10-2966-024; ER11-2383-020; ER12-1311-021; ER10-2466-022; ER22-1010-002; ER11-4029-021.

Applicants: Vermont Wind, LLC, TerraForm IWG Acquisition Holdings II, LLC, Stetson Wind II, LLC, Stetson Holdings, LLC, Safe Harbor Water Power Corporation, Rumford Falls Hydro LLC, Niagara Wind Power, LLC, Hawks Nest Hydro LLC, Great Lakes Hydro America, LLC, Evolugen Trading and Marketing LP, Evergreen Wind Power III, LLC, Evergreen Wind Power, LLC, Erie Wind, LLC, Erie Boulevard Hydropower, L.P., Carr Street Generating Station, L.P., Canandaigua Power Partners II, LLC, Canandaigua Power Partners, LLC, Brookfield White Pine Hydro LLC, Brookfield Renewable Trading and Marketing LP, Brookfield Renewable Energy Marketing US LLC, Brookfield Power Piney & Deep Creek LLC, Brookfield Energy Marketing US LLC, Brookfield Energy Marketing LP, Brookfield Energy Marketing Inc., BREG Aggregator LLC, Blue Sky East, LLC, Black Bear SO, LLC, Black Bear Hydro Partners, LLC, Black Bear Development Holdings, LLC, Bitter Ridge Wind Farm, LLC, Bishop Hill Energy LLC, BIF III Holtwood LLC, LSP Safe Harbor Holdings, LLC, Bear Swamp Power Company LLC.

Description: Bear Swamp Power Company LLC et al. submit Response to FERC's 03/04/2025 Deficiency Letter re Updated Market Power Analysis for the Northeast region.

Filed Date: 3/24/25.

Accession Number: 20250324-5213.

Comment Date: 5 p.m. ET 4/29/25.

Docket Numbers: ER16-63-005; ER14-25-023; ER17-360-004; ER17-361-004; ER17-482-013; ER17-540-003; ER16-61-005; ER22-2042-003; ER23-921-002; ER23-2203-002; ER17-2336-008; ER19-529-015; ER19-1074-015; ER20-2028-004; ER16-2527-005; ER16-64-005; ER23-2363-002; ER24-444-001; ER13-17-022; ER22-192-008; ER12-1504-008; ER10-1330-010; ER10-1331-005; ER10-1427-009; ER10-2461-024; ER10-2522-006; ER10-2567-006; ER10-2917-027; ER17-1394-009; ER10-1328-005; ER10-1332-005; ER10-2460-023; ER10-2918-026; ER10-2920-026; ER10-2922-027; ER11-2383-023; ER12-161-029; ER12-645-028; ER12-682-024; ER12-1502-008; ER12-2313-008; ER13-1139-025; ER14-1964-019; ER14-2630-018; ER16-141-007; ER16-287-013; ER16-355-005; ER17-2-006; ER17-362-004; ER17-539-003; ER19-89-001; ER19-1075-015; ER19-2684-003; ER20-1447-009; ER20-1487-004; ER20-1806-006; ER22-398-002; ER22-1010-007; ER22-1627-003; ER22-1883-003; ER23-1889-001; ER23-1939-002; ER23-2481-002; ER24-443-001.

Applicants: Deriva Energy Services, LLC, Crystal Hill Solar, LLC, Pike Solar LLC, Sweetland Wind Farm, LLC, Ledyard Windpower, LLC, AM Wind Repower LLC, TerraForm IWG Acquisition Holdings II, LLC, Mesa Wind Power LLC, Catalyst Old River Hydroelectric Limited Partnership, Frontier Windpower II, LLC, Brookfield Energy Marketing US LLC, Brookfield Renewable Energy Marketing US LLC, North Rosamond Solar, LLC, Wildwood Solar I, LLC, Rio Bravo Solar II, LLC, Frontier Windpower, LLC, Colonial Eagle Solar, LLC, BIF III Holtwood LLC, Conetoe II Solar, LLC, Regulus Solar, LLC, LSP Safe Harbor Holdings, LLC, Imperial Valley Solar 1, LLC, Laurel Hill Wind Energy, LLC, Ironwood Windpower, LLC, Erie Wind, LLC, California Ridge Wind Energy LLC, Bishop Hill Energy LLC, Safe Harbor Water Power Corporation, Hawks Nest Hydro LLC, Erie Boulevard Hydropower, L.P., Carr Street Generating Station, L.P., Canandaigua Power Partners, LLC, Three Buttes Windpower, LLC, Happy Jack Windpower, LLC, 83WI 8me, LLC, Brookfield Power Piney & Deep Creek LLC, Kit Carson Windpower, LLC, Top of the World Wind Energy, LLC, Canandaigua Power Partners II, LLC, Brookfield Energy Marketing LP, Silver Sage Windpower, LLC, North Allegheny Wind, LLC, Cimarron Windpower II, LLC, Evolugen Trading and Marketing LP, Niagara Wind Power, LLC, Deriva Energy Beckjord Storage LLC, HXOap Solar One, LLC, Tallbear Seville LLC, Caprock Solar I LLC, Bitter Ridge Wind Farm, LLC, Brookfield Energy Marketing Inc., Brookfield Renewable Trading and Marketing LP, Shoreham Solar Commons LLC, Wildflower Solar, LLC, Black Mesa Energy, LLC, Jackpot Holdings, LLC, Seville Solar One LLC, Wildwood Solar II, LLC, BREG Aggregator LLC, Pumpjack Solar I, LLC, Rio Bravo Solar I, LLC, Prairie Breeze Wind Energy LLC, Seville Solar Two, LLC.

Description: Supplement to January 31, 2024, Notice of Non-Material Change in Status of 83WI 8me, LLC, et al.

Filed Date: 4/7/25.

Accession Number: 20250407-5224.

Comment Date: 5 p.m. ET 4/28/25.

Docket Numbers: ER22-2352-000.

Applicants: Duke Energy Florida, LLC, Duke Energy Progress, LLC, Duke Energy Carolinas, LLC.

Description: Duke Energy Carolinas, LLC et al. submit Motion for an Extension of Time, to comply with implementing the requirements of Order Nos. 881 and 881-A, with expedited consideration.

Filed Date: 4/4/25.

Accession Number: 20250404-5243.

Comment Date: 5 p.m. ET 4/9/25.

Docket Numbers: ER22-2353-000.

Applicants: Florida Power & Light Company.

Description: Florida Power & Light Company submits a Motion for Extension of Time with request for expedited consideration, to comply with implementing the requirements of Order Nos. 881 and 881-A, until April 2026.

Filed Date: 4/4/25.

Accession Number: 20250404-5242.

Comment Date: 5 p.m. ET 4/9/25.

Docket Numbers: ER25-1057-001.

Applicants: Hornshadow Solar 2, LLC.

Description: Tariff Amendment: Response to Deficiency Letter to be effective 3/2/2025.

Filed Date: 4/7/25.

Accession Number: 20250407-5200.

Comment Date: 5 p.m. ET 4/17/25.

Docket Numbers: ER25-1900-000.

Applicants: Southwest Power Pool, Inc.

Description: § 205(d) Rate Filing: Tariff Clean-Up Filing Effective 20250415 to be effective 4/15/2025.

Filed Date: 4/8/25.

Accession Number: 20250408-5063.

Comment Date: 5 p.m. ET 4/29/25.

Docket Numbers: ER25-1901-000.

Applicants: Midcontinent Independent System Operator, Inc., International Transmission Company.

Description: § 205(d) Rate Filing: International Transmission Company submits tariff filing per 35.13(a)(2)(iii: 2025-04-08_SA 4468 ITCTransmission-DTE ELECTRIC E&P (R1041) to be effective 4/1/2025.

Filed Date: 4/8/25.

Accession Number: 20250408-5076.

Comment Date: 5 p.m. ET 4/29/25.

Docket Numbers: ER25-1902-000.

Applicants: NextEra Energy Transmission New York, Inc., New York Independent System Operator, Inc.

Description: § 205(d) Rate Filing: New York Independent System Operator, Inc. submits tariff filing per 35.13(a)(2)(iii: NYISO-NEETNY 205: EPCA among NYISO, NEETNY and Hecate Energy Cider Solar SA2893 to be effective 3/25/2025.

Filed Date: 4/8/25.

Accession Number: 20250408-5121.

Comment Date: 5 p.m. ET 4/29/25.

Docket Numbers: ER25-1903-000.

Applicants: Public Service Company of New Mexico.

Description: § 205(d) Rate Filing: Jicarilla TCIA 2nd Revised SA 398 to be effective 3/28/2025.

Filed Date: 4/8/25.

Accession Number: 20250408-5141.

Comment Date: 5 p.m. ET 4/29/25.

Docket Numbers: ER25-1904-000.

Applicants: PJM Interconnection, L.L.C.

Description: § 205(d) Rate Filing: Amendment to ISA, SA No. 5382; Queue No. W3-003/AD2-026/AE1-156 to be effective 6/8/2025.

Filed Date: 4/8/25.

Accession Number: 20250408-5169.

Comment Date: 5 p.m. ET 4/29/25.

Docket Numbers: ER25-1905-000.

Applicants: AEP Texas Inc.

Description: § 205(d) Rate Filing: AEPTX-Lunis Creek Solar Project 3rd Amended Generation Interconnection Agreement to be effective 3/26/2025.

Filed Date: 4/8/25.

Accession Number: 20250408-5183.

Comment Date: 5 p.m. ET 4/29/25.

Take notice that the Commission received the following electric securities filings:

Docket Numbers: ES25-39-000.

Applicants: New Hampshire Transmission, LLC.

Description: Application Under Section 204 of the Federal Power Act for Authorization to Issue Securities of New Hampshire Transmission, LLC.

Filed Date: 4/8/25.

Accession Number: 20250408-5177.

Comment Date: 5 p.m. ET 4/29/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 8, 2025.
Carlos D. Clay,
Deputy Secretary.

[FR Doc. 2025-06296 Filed 4-11-25; 8:45 am]

BILLING CODE 6717-01-P